DEPARTMENT OF AGRICULTURE

Submission for OMB Review; Comment Request

October 26, 2004.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Pamela_Beverly_OIRA_Submission@omb.eop.gov or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Animal and Plant Health Inspection Service

Title: 9 CFR 85 Psuedorabies.

OMB Control Number: 0579-0070.

Summary of Collection: The Animal and Plant Health Inspection Service (APHIS), on behalf of the Secretary of Agriculture, is charged with taking actions deemed necessary to prevent the introduction or dissemination of any contagious infections or communicable disease of animals or poultry from one State or Territory of the United States to another. APHIS implements regulations that control and stop the escalating spread of pseudorabies, which is a herpes virus disease that affects many specifies of animal, but primarily swine. Regulating the interstate movement of swine requires the use of certain information gathering activities such as permits, certificates, and owner-shipper statements to ascertain the health status of the swine.

Need and Use of the Information: The information collected is used by APHIS to monitor the health status of swine being moved, the number of swine being moved in a particular shipment, the shipment's point of origin, the shipment's destination, and the reason for the interstate movement. This information also provides APHIS officials with critical information concerning a shipment's history, which in turn enables APHIS to engage in swift, successful trace back investigations when infected swine are discovered.

Description of Respondents: Farms; Federal government; State, local, or tribal government.

Number of Respondents: 30,050.

Frequency of Responses: Recordkeeping; reporting: on occasion; quarterly.

Total Burden Hours: 8,567.

Animal and Plant Health Inspection Service

Title: Scrapie Flock Certification, Animal Identification, and Indemnification Procedures.

OMB Control Number: 0579-0101.

Summary of Collection: The Animal and Plant Health Inspection Service (APHIS) regulates the importation and interstate movement of animals and animal products, and conducts various other activities to protect the health of the Nation's livestock and poultry. Scrapie is a progressive, degenerative and eventually fatal disease affecting the central nervous system of sheep and goats. Its control is complicated because the disease has an extremely long incubation period without clinical signs of disease, and there is no test or known treatment for the disease. Regulations in 9 CFR part 79 restrict the interstate movement of certain sheep and goats to help prevent the spread of scrapie. APHIS also has regulations at 9 CFR part 54 for an indemnity program to compensate owners of sheep and goats destroyed because of scrapie.

Need and Use of the Information: APHIS will collect information using cooperative agreements; applications from owners to participate in the Scrapie Flock Certification Program; post-exposure management and monitoring plans; scrapie test records; application for indemnity payments; certificates, permits, and owner statements for the interstate movement of certain sheep and goats; application for premises identification numbers; and applications for APHIS-approved eartags, back tags, or tattoos. Without this information, APHIS’ efforts to more aggressively prevent the spread of scrapie would be severely hindered.

Description of Respondents: Farms; business or other for-profit; State, local, or tribal government.

Number of Respondents: 150,000.

Frequency of Responses: Recordkeeping; reporting: on occasion.

Total Burden Hours: 85,151.

Animal and Plant Health Inspection Service

Title: Exotic Newcastle Disease in Birds and Poultry; Chlamydiosis in Poultry.

OMB Control Number: 0579-0116.

Summary of Collection: Velogenic or exotic Newcastle disease (END) is the most severe form of Newcastle disease and is foreign to the United States. It is one of the most serious diseases of poultry throughout the world. The virus also infects and causes disease in wild birds including parrots and parakeets. Chlamydiosis is a naturally occurring contagious disease that can be highly fatal in young birds. Regulations contained in 9 CFR part 82 restrict the interstate movement of poultry, birds, and other items (such as eggs, carcasses, vehicles, containers, and coops) to help prevent the spread of END and chlamydiosis. Disease prevention is the most effective method for maintaining a healthy animal population and for enhancing APHIS ability to compete in the world market of animals and animal product trade.

Need and Use of the Information: APHIS will collect information through the use of documents attesting to the health status of the birds or poultry being moved, the number and types of birds or poultry being moved in a particular shipment, the shipment's point of origin and designation, and the reason for the interstate movement. These documents provide useful “trace back” information in the event an infected bird or chicken is discovered and an investigation must be launched to determine where the bird or chicken originated. The information provided by these documents is critical to APHIS ability to prevent the interstate spread of END, which is highly contagious and capable of causing significant economic harm to the U.S. poultry industry.

Description of Respondents: Business or other for profit; individuals or households; farms; State, local, or tribal government.

Number of Respondents: 60.

Frequency of Responses: Reporting: on occasion.

Total Burden Hours: 35.

Animal and Plant Health Inspection Service

Title: Importation of Fruits and Vegetables.

OMB Control Number: 0579-0128.

Summary of Collection: The United States Department of Agriculture is responsible for preventing plant pest and noxious weed from entering into the United States and controlling and eradication plant pests in the United States. The Plant Protection Act authorizes the Department to carry out this mission. Before entering the United States, fruits and vegetables are subject to inspection and disinfection at their port of first arrival to ensure that no plant pest are inadvertently brought into the United States. These precautions, along with other requirements, ensure that these items can be imported into the United States with minimal risk of introducing exotic plant pests such as fruit flies and leek moths.

Need and Use of the Information: APHIS will use the collected information on the Phytosanitary Certificate to determine the pest condition of the shipment at the time of inspection in the foreign country. The information is also used as a guide to the intensity of the inspection that is conducted when the shipment arrives. Without the information, all shipments would need to be inspected very thoroughly, thereby requiring considerably more time.

Description of Respondents: Business or other for profit; State, local, or tribal government; individuals or households; farms; not-for-profit institutions.

Number of Respondents: 50.

Frequency of Responses: Recordkeeping; reporting: on occasion.

Total Burden Hours: 501.

Animal and Plant Health Inspection Service

Title: Brucellosis in Sheep, Goats, Horses, and Payment of Indemnity.

OMB Control Number: 0579-0185.

Summary of Collection: 21 U.S.C. 111, 115, 118, authorized the Secretary of Agriculture to take measures to prevent the introduction or dissemination of any contagious or communicable disease of animals or live poultry from a foreign country into the United States or from one State to another. Disease preventing is the most effective method for maintaining a healthy animal population and enhancing the Animal and Plant Health Inspection (APHIS) ability to compete in exporting animals and animal products. Brucellosis is a contagious disease that causes loss of young through spontaneous abortion or birth of weak offspring, reduced milk production, and infertility. It is mainly a disease of cattle, bison, and swine. Sheep, goats, and horses are also susceptible, but are rarely infected. There is no economically feasible treatment for brucellosis in livestock.

Need and Use of the Information: APHIS will collect information from the use of official seals and animal identification; indemnity claims, test records, and permits; and the submission of proof of destruction documentation and requests for extension of certain program-related deadlines. The information will provide indemnity to owners of sheep, goat, or horses destroyed because of brucellosis. Without the information, it would make it impossible for APHIS to effectively operate an indemnity program for sheep, goats, and horses destroyed because of brucellosis.

Description of Respondents: Farms; individuals or households; Federal government; State, local and tribal government.

Number of Respondents: 4.

Frequency of Responses: Reporting: on occasion.

Total Burden Hours: 1.

Animal and Plant Health Inspection Service

Title: Black Stem Rust; Identification Requirements and Addition of Rust-Resistant Varieties.

OMB Control Number: 0579-0186.

Summary of Collection: Under the Plant Protection Act (7 U.S.C. 7701-772), the Secretary of Agriculture is authorized to prohibit or restrict the importation, entry, or movement of plants and plant products to prevent the introduction of plant pests into the United States or their dissemination within the United States. Black stem rust is one of the most destructive plant diseases of small grains that are known to exist in the United States. The disease is caused by a fungus that reduces the quality and yield of infected wheat, oat, barley, and rye crops by robbing host plants of food and water.

Need and Use of the Information: APHIS will collect information to prevent the spread of black stem rust by providing for and requiring the accurate identification of rust-resistant varieties by inspectors.

Description of Respondents: Business or other for profit.

Number of Respondents: 4.

Frequency of Responses: Reporting: on occasion.

Total Burden Hours: 32.

Animal and Plant Health Inspection Service

Title: NAHMS National Poultry Study 2004.

OMB Control Number: 0579-NEW

Summary of Collection: Collection and dissemination of animal health and poultry health data and information is mandated by 7 U.S.C. 391, the Animal Industry Act of 1884, which established the precursor of the Animal and Plant Health Inspection Service (APHIS), Veterinary Services, the Bureau of Animal Industry. The collection, analysis and dissemination of animal and poultry health information on a national basis are consistent with the APHIS mission of protecting and improving American agriculture's productivity and competitiveness. APHIS will be conducting the National Poultry 2004 Study, which will consist of three separate questionnaires and administered by Federal Veterinary technicians. The objectives of the Poultry 2004 Study are to: (1) Identify and describe the current population density of backyard poultry flocks around commercial operations within States that account for a large proportion of U.S. poultry production; (2) assess current movement and handling practices among small and large producers that could potentially spread poultry disease; (3) identify common movement, biosecurity, and cleaning and disinfection practice at live bird markets; and (4) disseminate information on the benefits of proper biosecurity techniques to poultry owners.

Need and Use of the Information: The information generated by the Poultry 2004 Study will be used to identify the potential impact of backyard poultry on commercial poultry facilities and to determine the economic consequences of animal disease.

Description of Respondents: Individuals or households; farms.

Number of Respondents: 3,750.

Frequency of Responses: Reporting; on occasion.

Total Burden Hours: 1,257.

Sondra Blakey,
Departmental Information Collection Clearance Officer.

[FR Doc. 04-24310 Filed 10-29-04; 8:45 am]

BILLING CODE 3410-34-P